ENVIRONMENTAL PROTECTION AGENCY

[FRL-9497-6]

Farm, Ranch, and Rural Communities Committee

AGENCY: Environmental Protection Agency (EPA).

ACTION: Notice of meeting.

SUMMARY: Under the Federal Advisory Committee Act, Public Law 92-463, EPA gives notice of a meeting of the Farm, Ranch, and Rural Communities Committee (FRRCC). The FRRCC is a policy-oriented committee that provides policy advice, information, and recommendations to the EPA Administrator on a range of environmental issues and policies that are of importance to agriculture and rural communities.

The purpose of this meeting is to review and finalize recommendations regarding effective approaches to addressing water quality issues associated with agricultural production.

DATES: The Farm, Ranch, and Rural Communities Committee will hold an open meeting on Monday, December 12, 2011 from 10 a.m. until 12 p.m. Eastern Standard Time. Due to logistical circumstances, EPA is announcing this meeting with less than 15 calendar days public notice.

ADDRESSES: The meeting will be held at EPA Headquarters at 1200 Pennsylvania Avenue NW, Washington, DC 20460 in Ariel Rios North, Room 3530. The meeting is open to the public, with limited seating on a first-come, first-served basis.

FOR FURTHER INFORMATION CONTACT: Alicia Kaiser, Designated Federal Officer, kaiser.alicia@epa.gov, (202) 564-7273, U.S. EPA, Office of the Administrator (1101A), 1200 Pennsylvania Avenue NW., Washington, DC 20460.

SUPPLEMENTARY INFORMATION: Due to time constraints and the need for the Committee to discuss its recommendations, there will not be an opportunity for the public to make oral comments at this meeting. However, written comments may be submitted and will be provided to the Committee. Please send all written comments to Alicia Kaiser, Designated Federal Officer, at the contact information above. All requests must be submitted no later than December 5, 2011.

Meeting Access: For information on access or services for individuals with disabilities, please contact Alicia Kaiser at (202) 564-7273 or kaiser.alicia@epa.gov. To request accommodation of a disability, please contact Alicia Kaiser, preferably at least 10 days prior to the meeting, to give EPA as much time as possible to process your request.

Dated: November 22, 2011.
Cynthia D. Jones-Jackson,
Acting Designated Federal Officer.

[FR Doc. 2011-30711 Filed 11-28-11; 8:45 am]

BILLING CODE 6560-50-P